DEPARTMENT OF COMMERCE

International Trade Administration

[A-351-832, A-560-815, A-201-830, A-841-805, A-274-804, A823-812]

Notice of Antidumping Duty Orders: Carbon and Certain Alloy Steel Wire Rod from Brazil, Indonesia, Mexico, Moldova, Trinidad and Tobago, and Ukraine

AGENCY: Import Administration, International Trade Administration, U.S. Department of Commerce.

EFFECTIVE DATE: October 29, 2002.

FOR FURTHER INFORMATION CONTACT: Victoria Schepker (Brazil) at (202) 482-1756, Michael Ferrier (Indonesia) at (202) 482-1394, Marin Weaver (Mexico) at (202) 482-2336, Thomas Gilgunn (Moldova) at (202) 482-4236, Tisha Loeper-Viti (Trinidad and Tobago) at (202) 482-7425, James Doyle (Ukraine) at (202) 482-0159; Import Administration, International Trade Administration, U.S. Department of Commerce, 14th Street and Constitution Avenue, NW, Washington, DC 20230.

SUPPLEMENTARY INFORMATION:

The Applicable Statute and Regulations

Unless otherwise indicated, all citations are to the provisions of the Tariff Act of 1930, as amended (the Act). In addition, unless otherwise indicated, all citations to the Department's regulations are to the regulations at 19 CFR part 351 (2001).

Background

On August 26, 2002, the Department issued its final determinations in the antidumping duty investigations of carbon and certain alloy steel wire rod from Brazil, Indonesia, Mexico, Moldova, Trinidad and Tobago, and Ukraine. See Notice of Final Determination of Sales at Less than Fair Value: Carbon and Certain Alloy Steel Wire Rod From Brazil, 67 FR 55792 (August 30, 2002); Notice of Final Determination of Sales at Less than Fair Value: Carbon and Certain Alloy Steel Wire Rod From Indonesia, 67 FR 55798 (August 30, 2002); Notice of Final Determination of Sales at Less than Fair Value: Carbon and Certain Alloy Steel Wire Rod From Mexico, 67 FR 55800 (August 30, 2002); Notice of Final Determination of Sales at Less than Fair Value: Carbon and Certain Alloy Steel Wire Rod From Moldova, 67 FR 55790 (August 30, 2002); Notice of Final Determination of Sales at Less than Fair Value: Carbon and Certain Alloy Steel Wire Rod From Trinidad and Tobago, 67 FR 55788 (August 30, 2002); and Notice of Final Determination of Sales at Less than Fair Value: Carbon and Certain Alloy Steel Wire Rod From Ukraine, 67 FR 55785 (August 30, 2002).

On October 15, 2002, the International Trade Commission (the ITC) notified the Department of its final determination pursuant to section 735(b)(1)(A)(i) of the Act that an industry in the United States is materially injured by reason of less-than-fair-value imports of subject merchandise from Brazil, Canada, Indonesia, Mexico, Moldova, Trinidad and Tobago, and Ukraine. The antidumping duty order and amended final determination for carbon and certain alloy steel wire rod from Canada is published in a separate Federal Register notice. In addition, the ITC notified the Department of its final determination that critical circumstances do not exist with respect to imports of subject merchandise from Moldova and Ukraine.

Scope of the Orders

The merchandise subject to these orders is certain hot-rolled products of carbon steel and alloy steel, in coils, of approximately round cross section, 5.00 mm or more, but less than 19.00 mm, in solid cross-sectional diameter.

Specifically excluded are steel products possessing the above-noted physical characteristics and meeting the Harmonized Tariff Schedule of the United States (HTSUS) definitions for (a) stainless steel; (b) tool steel; (c) high nickel steel; (d) ball bearing steel; and (e) concrete reinforcing bars and rods. Also excluded are (f) free machining steel products (i.e., products that contain by weight one or more of the following elements: 0.03 percent or more of lead, 0.05 percent or more of bismuth, 0.08 percent or more of sulfur, more than 0.04 percent of phosphorus, more than 0.05 percent of selenium, or more than 0.01 percent of tellurium).

Also excluded from the scope are 1080 grade tire cord quality wire rod and 1080 grade tire bead quality wire rod. This grade 1080 tire cord quality rod is defined as: (i) grade 1080 tire cord quality wire rod measuring 5.0 mm or more but not more than 6.0 mm in cross-sectional diameter; (ii) with an average partial decarburization of no more than 70 microns in depth (maximum individual 200 microns); (iii) having no inclusions greater than 20 microns; (iv) having a carbon segregation per heat average of 3.0 or better using European Method NFA 04-114; (v) having a surface quality with no surface defects of a length greater than 0.15 mm; (vi) capable of being drawn to a diameter of 0.30 mm or less with 3 or fewer breaks per ton, and (vii) containing by weight the following elements in the proportions shown: (1) 0.78 percent or more of carbon, (2) less than 0.01 percent of aluminum, (3) 0.040 percent or less, in the aggregate, of phosphorus and sulfur, (4) 0.006 percent or less of nitrogen, and (5) not more than 0.15 percent, in the aggregate, of copper, nickel and chromium.

This grade 1080 tire bead quality rod is defined as: (i) grade 1080 tire bead quality wire rod measuring 5.5 mm or more but not more than 7.0 mm in cross-sectional diameter; (ii) with an average partial decarburization of no more than 70 microns in depth (maximum individual 200 microns); (iii) having no inclusions greater than 20 microns; (iv) having a carbon segregation per heat average of 3.0 or better using European Method NFA 04-114; (v) having a surface quality with no surface defects of a length greater than 0.2 mm; (vi) capable of being drawn to a diameter of 0.78 mm or larger with 0.5 or fewer breaks per ton; and (vii) containing by weight the following elements in the proportions shown: (1) 0.78 percent or more of carbon, (2) less than 0.01 percent of soluble aluminum, (3) 0.040 percent or less, in the aggregate, of phosphorus and sulfur, (4) 0.008 percent or less of nitrogen, and (5) either not more than 0.15 percent, in the aggregate, of copper, nickel and chromium (if chromium is not specified), or not more than 0.10 percent in the aggregate of copper and nickel and a chromium content of 0.24 to 0.30 percent (if chromium is specified).

The designation of the products as “tire cord quality” or “tire bead quality” indicates the acceptability of the product for use in the production of tire cord, tire bead, or wire for use in other rubber reinforcement applications such as hose wire. These quality designations are presumed to indicate that these products are being used in tire cord, tire bead, and other rubber reinforcement applications, and such merchandise intended for the tire cord, tire bead, or other rubber reinforcement applications is not included in the scope. However, should petitioners or other interested parties provide a reasonable basis to believe or suspect that there exists a pattern of importation of such products for other than those applications, end-use certification for the importation of such products may be required. Under such circumstances, only the importers of record would normally be required to certify the end use of the imported merchandise.

All products meeting the physical description of subject merchandise that are not specifically excluded are included in this scope.

The products under investigation are currently classifiable under subheadings 7213.91.3010, 7213.91.3090, 7213.91.4510, 7213.91.4590, 7213.91.6010, 7213.91.6090, 7213.99.0031, 7213.99.0038, 7213.99.0090, 7227.20.0010, 7227.20.0020, 7227.20.0090, 7227.20.0095, 7227.90.6051, 7227.90.6053, 7227.90.6058, and 7227.90.6059 of the HTSUS. Although the HTSUS subheadings are provided for convenience and customs purposes, the written description of the scope of this proceeding is dispositive.

Antidumping Duty Orders

In accordance with section 736(a)(1) of the Act, the Department will direct the Customs Service to assess, upon further advice by the Department, antidumping duties equal to the amount by which the normal value of the merchandise exceeds the export price or constructed export price of the merchandise for all relevant entries of carbon and certain alloy steel wire rod from Brazil, Indonesia, Mexico, Moldova, Trinidad and Tobago, and Ukraine. These antidumping duties will be assessed on all (1) unliquidated entries of carbon and certain alloy steel wire rod from Mexico, Moldova, Trinidad and Tobago, and Ukraine entered, or withdrawn from warehouse, for consumption on or after April 10, 2002, and before October 7, 2002, and from Brazil on or after April 15, 2002, and before October 12, 2002; and (2) merchandise entered, or withdrawn from warehouse, for consumption on or after the date of publication of these antidumping duty orders in the Federal Register. The Department terminated the suspension of liquidation, pursuant to section 733(d)(3) of the Act on October 7, 2002, for Mexico, Moldova, Trinidad & Tobago, and Ukraine, and on October 12, 2002, for Brazil. Entries of carbon and certain alloy steel wire rod made between October 12, 2002, for Brazil and between October 7, 2002, for Mexico, Moldova, Trinidad and Tobago, and Ukraine and the day preceding the date of publication of this notice in the Federal Register, are not liable for the assessment of antidumping duties. Regarding the negative critical circumstances determination, we will instruct the Customs service to lift suspension and to release any bond or other security, and refund any cash deposit made, to secure the payment of antidumping duties with respect to entries of the merchandise entered, or withdrawn from warehouse, for consumption on or after January 10, 2002, but before April 10, 2002. January 10, 2002, is 90 days prior to April 10, 2002, the date of publication of the preliminary determinations in the Federal Register. The Department suspended liquidation of entries of carbon and certain alloy steel wire rod from Indonesia on August 30, 2002, the Federal Register publication date of the final affirmative antidumping duty determination.

On or after the date of publication of this notice in the Federal Register, Customs must require, at the same time as importers would normally deposit estimated duties on this merchandise, a cash deposit equal to the estimated weighted-average antidumping duty margins as noted below. In the case of Brazil, we will adjust the deposit requirements to account for any export subsidies found in the amended final determination in the companion countervailing duty investigation. The “all others,” “Moldova-wide,” and “Ukraine-wide” rates apply to all exporters of subject merchandise not specifically listed. The weighted-average dumping margins are as follows:

Exporter/Manufacturer | Weighted-Average Margin
Brazil
Companhia Siderúrgica Belgo Mineira and Belgo-Mineira Participão Indústria e Comércio S.A. (BMP) | 94.73%
All Others | 74.35%
Indonesia
P.T. Ispat Indo | 4.06%
All Others | 4.06%
Mexico
Siderurgica Lazaro Cardenas Las Truchas, S.A. de C.V. (SICARTSA) | 20.11%
All Others | 20.11%
Moldova
Moldova-wide rate | 369.10%
Trinidad and Tobago
Caribbean Ispat Ltd | 11.40%
All Others | 11.40%
Ukraine
Krivorozhstal State Mine-Metallurgical Works | 116.37%
Ukraine-wide rate | 116.37%

This notice constitutes the antidumping duty orders with respect to carbon and certain alloy steel wire rod from Brazil, Indonesia, Mexico, Moldova, Trinidad and Tobago, and Ukraine pursuant to section 736(a) of the Act. Interested parties may contact the Department's Central Records Unit, Room B-099 of the Main Commerce Building, for copies of an updated list of antidumping duty orders currently in effect.

These orders are issued and published in accordance with section 736(a) of Act and 19 CFR 351.211.

Dated: October 21, 2002.
Faryar Shirzad,
Assistant Secretary for Import Administration.

[FR Doc. 02-27513 Filed 10-28-02; 8:45 am]

BILLING CODE 3510-DS-S